DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/ county | Source of flooding | Location | #Depth in feet above ground. *Elevation in feet (NGVD) +Elevation in feet (NAVD) Modified
Pike County, Kentucky and Incorporated Areas
Docket No.: FEMA-B-7456
KY | Pike County (Unincorporated Areas) | Ferguson Creek | At the confluence Ferguson Creek with Pikeville Pond | +676
| City of Pikeville |  | Approximately 100 feet upstream of confluence of Williams Branch | +853
| Pike County (Unincorporated Areas) | Harolds Branch | At the confluence Harolds Branch with Pikeville Pond | +678
| City of Pikeville |  | Approximately 3,020 feet upstream of Pikeville Pond | +705
| Pike County (Unincorporated Areas) | Lower Chloe Creek | At the confluence Lower Chloe Creek with Pikeville Pond | +676
| City of Pikeville |  | Approximately 680 feet downstream of confluence of Peter Fork | +747
| Pike County (Unincorporated Areas) | Pikeville Pond | Approximately 3,160 feet downstream of confluence of Harolds Branch | +666
| City of Pikeville |  | At the confluence Pikeville Pond with Levisa Fork | +686
# Depth in feet above ground.
* National Geodetic Vertical Datum.
+ North American Vertical Datum.
(Note: NGVD −.609′ = NAVD)
ADDRESSES
Pike County (Unincorporated Areas)
Maps are available for inspection at 260 Hambley Boulevard, Pikeville, KY 41501.

Flooding source(s) | Location of referenced elevation | *Elevation in feet (NGVD) +Elevation in feet (NAVD) # Depth in feet above ground Modified | Communities affected
East Baton Rouge Parish, Louisiana and Incorporated Areas
Docket No.: FEMA-B-7700
Bayou Duplantier and Corporation Canal | Confluence with Dawson Creek | +25 | East Baton Rouge Parish.
| Intersection with Nicholson Drive on-ramp | +29 |
Bayou Fountain | Confluence with Bayou Manchac | +14 | East Baton Rouge Parish.
| 500 feet upstream from the intersection with Nicholson Drive | +23 |
North Branch | Confluence with Bayou Fountain | +21 | East Baton Rouge Parish.
| Approximately 2100 feet upstream from the intersection with Nicholson Drive (at pedestrian bridge) | +22 |
South Branch | Confluence with Bayou Fountain | +23 | East Baton Rouge Parish.
| Approximately 2100 feet upstream from the intersection with Gourrier Ave | +24 |
Tributary 1 | Upstream face-Fulmer Skipwith Road | +16 | East Baton Rouge Parish.
| Approximately 1200 feet upstream from the intersection with Highland Road | +18 |
Clay Cut Bayou | Approximately 4400 feet downstream from Tiger Bend Road | +26 | East Baton Rouge Parish.
| Approximately 600 feet upstream from the intersection with Bluebonnet Road | +32 |
Dawson Creek | Confluence with Ward's Creek | +24 | East Baton Rouge Parish.
| Approximately 1200 feet upstream from the intersection with Clay Cut Road | +36 |
Elbow Bayou | Upstream face of Illinois Central Railroad | +18 | East Baton Rouge Parish.
| Approximately 3.1 miles upstream from Ben Hur Road | +21 |
Jacks Bayou | Confluence with Clay Cut Bayou | +30 | East Baton Rouge Parish.
| Approximately 2400 feet upstream from the intersection with Parkforest Drive | +37 |
Mississippi River | Intersection of Bluebonnet Blvd and Nicholson Dr. (East Baton Rouge Parish limits) | +42 | East Baton Rouge Parish.
| Mississippi River west of W. Mount Pleasant Road (East Baton Rouge Parish limits) | +52 |
| West of W. Mount Pleasant Road (East Baton Rouge Parish Boundary) | +42 |
| At confluence of Mississippi River and Bayou Manchac (East Baton Rouge Parish Boundary) | +52 |
North Branch Wards Creek | Confluence with Wards Creek | +29 | East Baton Rouge Parish.
| Approximately 1100 feet upstream from the intersection with Connells Village Lane | +44 |
South Canal Diversion | Approximately 2300 feet upstream from the intersection with Plank Road | +82 | East Baton Rouge Parish, City of Baker
| Approximately 2300 feet upstream from the intersection with Plank Road | +82 |
East Baton Rouge Parish | East Baton Rouge Parish | +16 | East Baton Rouge Parish
| Approximately 2300 feet upstream from the intersection with Elvin Drive | +16 |
Unnamed Tributary to North Branch Wards Creek (Harelson Lateral) | Confluence with North Branch Wards Creek | +40 | East Baton Rouge Parish.
| Confluence with North Branch Wards Creek | +43 |
Upper Cypress Bayou | Approximately 2800 feet upstream from the intersection with Heck Young Rd | +81 | City of Zachary.
| Approximately 100 feet downstream from the intersection with Rollins Road | +94 |
Upper White Bayou | Confluence with South Canal | +82 | City of Zachary, East Baton Rouge Parish.
| Approximately 2700 feet upstream from Old Scenic Highway | +119 |
Wards Creek | Confluence with Bayou Manchac | +18 | East Baton Rouge Parish.
| Approximately 100 feet upstream from the intersection with Choctaw Drive | +51 |
Weiner Creek | Confluence with Jones Creek | +39 | East Baton Rouge Parish.
| Approximately 1100 feet upstream from the intersection with Church Entrance Road | +42 |
* National Geodetic Vertical Datum.
# Depth in feet above ground.
+ North American Vertical Datum.
ADDRESSES
City of Baker
Maps are available for inspection at City Hall, 3325 Groom Road, Baker, LA 70714.
City of Zachary
Maps are available for inspection at City Hall, 4650 Main Street, Zachary, LA 70791.
East Baton Rouge Parish
Maps are available for inspection at 4th Floor Municipal Building, 300 North Blvd, Baton Rouge, LA 70802.
Liberty County, Texas and Unincorporated Areas
Docket No.: FEMA-B-7708
Cedar Bayou (Lower) | Approximately 1800 feet downstream from Kenning Road (County Boundary) | +36 | Liberty County (Unincorporated Areas).
| Approximately 3200 feet upstream from Crosby East Gate Road (County Boundary) | +62 |
Trinity River | Approximately 1.3 miles downstream from U.S. Route 90 | +25 | City of Liberty.
| Approximately 3.6 miles upstream from the Missouri Pacific Railroad | +36 | Liberty County (Unincorporated Areas).
* National Geodetic Vertical Datum.
# Depth in feet above ground.
+ North American Vertical Datum.
ADDRESSES
City of Liberty
Maps are available for inspection at Liberty City Hall, 1829 Sam Houston, Liberty, TX 77575.
Liberty County (Unincorporated Areas)
Maps are available for inspection at Liberty County Annex, 2103 Cos Street, Liberty, TX 77575.

(Catalog of Federal Domestic Assistance No. 97.022, “Flood Insurance.”)

Dated: December 18, 2007.
David I. Maurstad,
Federal Insurance Administrator of the National Flood Insurance Program, Department of Homeland Security, Federal Emergency Management Agency.

[FR Doc. E7-25304 Filed 12-27-07; 8:45 am]

BILLING CODE 9110-12-P